DEPARTMENT OF VETERANS AFFAIRS

Announcement of Competition Under the America COMPETES Reauthorization Act of 2011: Badges for Veterans Contest

AGENCY: Department of Veterans Affairs.

ACTION: Notice.

SUMMARY: To encourage creation of systems which help good jobs find Veterans and Veterans find good jobs, the Secretary of Veterans Affairs (VA) announces a prize contest under Section 105 of the America COMPETES Reauthorization Act of 2011, Public Law 111-358 (2011) (the “Act”).

DATES: Entries will be accepted until 5 p.m., Eastern Standard Time, February 27, 2012. Winners will be announced on or about March 1, 2012.

FOR FURTHER INFORMATION CONTACT: James M. Speros, Special Assistant to Chief Technology Officer, Office of the Secretary, Department of Veterans Affairs, 810 Vermont Avenue NW., Washington, DC 20420; (202) 461-7214. (This is not a toll-free number.) Also, see Section 6.

SUPPLEMENTARY INFORMATION: Veterans rejoin the civilian community with up-to-date, cutting edge job skills developed during training and work experience in their military service. These job skills are highly valued and desired by civilian employers. Veterans report challenges in “translating” military job skills to their civilian counterparts and in obtaining civilian credit for military training. The easier task is drawing direct linkages between skills acquired in the military and the duties performed in civilian jobs. More challenging is obtaining civilian recognition of military training when formal education or other credential is a prerequisite for employment, self employment, or licensure leading to employment.

Through the Badges for Vets Contest (“Vets Contest”), VA and its collaborators, the U.S. Departments of Education, Labor, and Energy, seek an easily understandable means to translate military training and experience into their civilian equivalents. The badges created under this system will be marketable credentials enabling employers to quickly identify Veterans as among the best qualified in any job applicant pool, or which identify Veterans as qualified to perform services if self-employed.

Because a Veteran employed or self-employed in a civilian occupation can far more readily re-enter non-military society, Veteran employment is an objective of several programs administered by VA and its Government collaborators. The Badges for Vets Contest will advance the mission of VA by encouraging the development of systems which help good jobs find Veterans and Veterans find good jobs.

The Vets Contest will be conducted in cooperation with the “Badges for Lifelong Learning Competition” (“Competition”) administered by the Humanities, Arts, Science, and Technology Advanced Collaboratory (HASTAC) Initiative with the support of the Mozilla Foundation and the McArthur Foundation, http://www.dmlcompetition.net/Competition/4/badges-competition-cfp.php. The goal of the Competition is support for the creation of digital tools to identify, recognize, measure, and account for skills, competencies, knowledge, and achievements acquired during the course of lifelong learning. The Mozilla Open Badge Infrastructure, http://openbadges.org, has been selected to enable interoperability and seamless collection of badges. The Vets Contest is described generally at http://www.dmlcompetition.net/Competition/4/badges-projects.php?id=2667.

VA does not anticipate that it will issue badges or, except as an employer, actively participate in the resulting badges program. Instead, VA believes it can serve Veterans and employers by acting as a catalyst for the development of meaningful badge systems for use by Veterans and employers.

Contest Requirements and Rules

1. Subject of the Contest. The goal of the Vets Contest is to support the development of systems that deliver real, substantial and sustainable benefits to employers and to Veterans by enabling employers to quickly identify Veterans who have military education and skills that meet requirements for civilian jobs, or which help Veterans who want to start their own business demonstrate their qualifications to their customers.

2. Amount of the prize. VA will award up to $25,000 to as many as three entrants. VA may elect to award two additional prizes of up to $25,000 each.

3. Participation in the Contest will be through the Badges for Lifelong Learning Competition.

a. The Vets Contest will be administered by VA according to the rules and requirements posted on the Competition Web site, http://www.dmlcompetition.net/Competition/4/badges-competition-cfp.php, including those on the “Terms and Conditions” page, http://www.dmlcompetition.net/Competition/4/badges-terms-and-conditions.php#IP.

b. The rules in this Notice supplement the rules on the Competition Web site. If there is any conflict between any requirement stated on the Competition Web site and the provisions of this Notice, the provisions of this Notice will govern.

c. Important: Entries must be made through the Competition Web site: http://fastapps.dmlcompetition.net/user/login?url=application%2Fsubmit%2Fdmlc-4v. Before submitting an entry, an entrant must register for a FastApps account at http://fastapps.dmlcompetition.net/user/register. Registration for a FastApps account constitutes “registration to participate in the competition” required by Section 105(g)(1) of the Act.

d. Entries must comply with form, content and length requirements set forth on the Competition Web site, including http://www.dmlcompetition.net/Competition/4/badges-stage-2.php.

4. Basis on which a winner will be selected:

a. An entrant must demonstrate to the satisfaction of the judges that the entrant's proposed badge system will deliver real, substantial, and sustainable benefit to both employers and Veterans by achieving two separate but interrelated goals. First, an entrant must demonstrate that a significant number of employers will accept the badge as a credential demonstrating occupational qualifications actually desired in a specific occupational area. Second, an entrant must demonstrate to the judges that Veterans will have clear and achievable pathways to acquire badges which are desired by employers. Entries which the judges determine do not meet these criteria will not be awarded a prize.

b. Badges must address one of the following priority occupational areas:

• Supply Administration and Logistics, which may include specialties such as a supply chain procurement, automated logistics management, and lean Six Sigma.

• Law Enforcement, which may include specialties such as criminal investigation and analysis.

• Medical Care and Treatment, with specific focus on Physicians' Assistants.

• Motor Vehicle Operators, with specific focus on occupations requiring a Commercial Driver's License.

• Automotive Service and Repair, with specific focus on emerging technologies such as electric-drive vehicles and alternative fuels.

• Information Technology, including all phases of software development and IT project management.

Included in these priority areas are those with the largest number of Military Occupational Specialty (MOS) Codes earned by recently discharged Veterans for specific training and experience during military service, as identified by Department of Defense.

c. Badges must incorporate the Mozilla Open Badge Infrastructure, http://openbadges.org.

d. When determining whether an entry meets the criteria to be awarded a prize and when rating and ranking multiple entries, judges may consider any factor mentioned on the Competition Web site and in addition may consider the following:

i. Pathways to badges. In some of the priority occupational areas, Veterans may be able to earn digital badges designating specific civilian-marketable skills based solely on military training and experience (MTE). In these cases, judges may consider whether a proposed badge system can deliver value to employers and Veterans by:

• Identifying specific skills and competencies desired by employers;

• Verifying that Veterans can demonstrate those skills based on relevant MTE; or

• Awarding and validating digital badges that employers will recognize and Veterans can use to demonstrate job qualifications.

Judges may also consider whether badge systems provide pathways by which Veterans can:

• Acquire formal civilian education or other credit based on their MTE;

• Acquire civilian licensure or other credential based on MTE; or

• A combination of the two.

When state licensure or occupational certification is required to be marketable in a priority occupational area, judges may consider whether a badge system supports pathways by which Veterans supplement MTE with specific required education.

ii. Effectiveness and Sustainability. Judges may consider whether the proposed badge system is likely to be effective and sustainable and may assess the following:

1. Whether proposed badge systems are built on partnerships with organizations that:

• Are widely representative of employers who have a recurring need to employ individuals with skill sets in the priority occupational areas;

• Have—or demonstrate that they can develop—programs and processes that deliver validated credentials or accomplishments in the priority areas; and

• Can demonstrate they have or can develop:

○ Programs to validly assess prior learning acquired from education, training or experience and particularly MTE;

○ Articulation agreements with accredited institutions that support formal recognition of MTE through the granting of academic credit or satisfaction of prerequisites;

○ Programs that identify additional training or experience required to meet essential prerequisites for occupational certification or licensure;

○ Programs to assist Veterans to obtain financing for additional training or experience necessary to earn a specific badge, license or professional certification; or

○ Programs that assure a Veteran who chooses to acquire additional training or experience is prepared for success when seeking formal occupational certification or licensure.

2. How a program will define its success if implemented. Measures of success may include the number of issued badges or other credentials. Judges may determine that more meaningful metrics include:

• Dropout and success rates for Veterans who seek additional training.

• Market share of employers that accept the badge as meeting qualification requirements.

• The number of Veterans who are actually hired into positions for which a badge shows they qualify.

• Six-month retention and one-year promotion rates.

• Employer and Veteran satisfaction.

5. Eligibility. To be eligible to participate in the Vets Contest and win a prize, an entrant:

a. Must create an account on the Challenge.gov Web site by supplying their name and email address. Creating an account will constitute “registration to participate in the competition” as provided in the Act.

b. If an individual, must be a citizen of or permanent resident of the United States; and if an entity, must be incorporated in and maintain a primary place of business in the United States.

c. May not be a Federal entity or Federal employee acting in the scope of the employee's employment.

d. Must agree to assume any and all risks and waive any claims against the Federal Government and its related entities (except in the case of willful misconduct) for any injury, death, damage, or loss of property, revenue or profits, whether direct, indirect, or consequential, arising from their participation in the Vets Contest, whether the injury, death, damage, or loss arises through negligence of otherwise. Provided, however, that participants will not be required to waive claims against VA arising out of the unauthorized use or disclosure by the agency of the intellectual property, trade secrets, or confidential information of the entrant.

e. Shall be responsible for obtaining insurance to cover claims by any third party for death, bodily injury, or property damage or loss resulting from an activity carried out in connection with or participation in the Vets Contest.

f. Must have complied with all requirements of this Notice and all requirements established by the Act.

6. Procedures for obtaining additional information.

a. During the period of the Vets Contest, VA will operate and maintain a moderated discussion board at http://challenge.gov/VAi2/262-badges-for-vets to which potential participants or entrants may submit questions to VA.

b. VA may choose not to respond to any question or comment or to delete questions or comments which it determines are not relevant to the competition. VA's responses to questions on the discussion board are not official guidance.

c. VA will also maintain a blog on the http://challenge.gov/VAi2/262-badges-for-vets, Web site on which it may post official guidance related to the Vets Contest. All entrants are bound by official guidance on the blog which is posted prior to submission of a participant's entry.

7. Intellectual Property.

a. VA does not accept any responsibility for a registered entrant's lack of compliance with Intellectual Property or other Federal law. Entrants are subject to the Competition's Intellectual Property (“IP”) policies set forth on http://www.dmlcompetition.net/Competition/4/badges-terms-and-conditions.php#IP.

b. The winner of the Vets Contest will, in consideration of the prize to be awarded, grant to VA a perpetual non-exclusive royalty-free license to use any and all intellectual property pertaining to the winning entry for any governmental purpose, including the right to permit such use by any other agency or agencies of the Federal Government.

c. VA may, in its sole and exclusive discretion, choose to negotiate with any registered entrant to acquire a license to use any intellectual property developed in connection with the Vets Contest.

8. Judges and Judging Procedures.

a. Subject to the requirements of Public Law 111-358, Sec 24(k), the Director, VA Innovations Initiative, acting on behalf and with the authority of the Secretary of VA, will appoint one or more qualified individuals to act as judges of the Vets contest, and may appoint himself as a judge. Judges may include individuals from outside VA, including from the private sector and individuals nominated by the Competition. Judges will operate in a transparent manner.

b. A judge may not have a personal or financial interest in, or be an employee, officer, director, or agent of any entity that is a registered entrant in the Vets Contest, and may not have a familial or financial relationship with an individual who is a registered entrant.

c. Specific tasks related to the judging process may be delegated to VA employees or employees of a collaborating Federal agency.

d. Judges shall have the authority to disregard any minor error in any entry that does not create any substantial benefit or detriment to any entrant.

e. Decisions of the judges are final.

9. Payment of Prizes, use of Prize Money and Post-Award Performance.

a. Prize money will be paid in quarterly installments starting on or about April 1, 2012, and must be used specifically for the awarded project according to the budget proposed by the winning entrant.

b. Post-award performance will be monitored by HASTAC in accordance with Competition rules and procedures, and payment of installments is contingent on (1) receipt by HASTAC's of acceptable quarterly financial and progress reports, (2) HASTAC's recommendation to VA that the prize installments be paid, and (3) VA's independent determination that acceptable quarterly financial and progress reports have been submitted.

c. VA may elect to pay prize money directly to the winner instead of making payments through HASTAC. If VA elects to pay prize money directly, the winner will provide VA with sufficient information to support payment transactions in accordance with VA fiscal policy and the issuance of Internal Revenue Service 1099s.

Dated: February 16, 2012.
John R. Gingrich,
Chief of Staff.

[FR Doc. 2012-4314 Filed 2-23-12; 8:45 am]

BILLING CODE 8320-01-P